ENVIRONMENTAL PROTECTION AGENCY

40 CFR Part 52

[EPA-R06-OAR-2008-0636; FRL-9925-11-Region 6]

Approval and Promulgation of Air Quality Implementation Plans; New Mexico; Albuquerque/Bernalillo County; Revisions to Emission Inventory Requirements, and General Provisions

AGENCY: Environmental Protection Agency (EPA).

ACTION: Withdrawal of direct final rule.

SUMMARY: On February 2, 2015, the Environmental Protection Agency (EPA) published a direct final rule approving revisions to the Albuquerque/Bernalillo County, New Mexico State Implementation Plan. These revisions add definitions and clarifying changes to the general provisions and add a new emissions inventory regulation that establishes reporting requirements for stationary sources in Albuquerque/Bernalillo County. The direct final rule was published without prior proposal because EPA anticipated no adverse comments. EPA stated in the direct final rule that if we received relevant, adverse comments by March 4, 2015, EPA would publish a timely withdrawal in the Federal Register. EPA received a comment on February 20, 2015 from the Sierra Club stating in relevant part, that an Acting Regional Administrator cannot sign approvals, disapprovals, or any combination of approvals or disapproval, in whole or in part, due to the fact that the authority to act on agency actions on state implementation plans is delegated only to, and therefore can only be signed by, the Regional Administrator. EPA considers this a relevant, adverse comment and accordingly we are withdrawing our direct final rule approval, and in a separate subsequent final rulemaking we will address the comment received. The withdrawal is being taken pursuant to section 110 of the Clean Air Act (CAA).

DATES: The direct final rule published on February 2, 2015 (80 FR 5471), is withdrawn effective March 26, 2015.

FOR FURTHER INFORMATION CONTACT: Mr. John Walser (6PD-L), Air Planning Section, telephone (214) 665-7128, fax (214) 665-6762, email: walser.john@epa.gov.

List of Subjects in 40 CFR Part 52

Environmental protection, Air pollution control, Incorporation by reference, Intergovernmental relations, Nitrogen dioxides, Ozone, Particulate matter, Reporting and recordkeeping requirements, Volatile organic compounds.

Dated: March 13, 2015.
Ron Curry,
Regional Administrator, Region 6.

Accordingly, the amendments to 40 CFR 52.1620 published in the Federal Register on February 2, 2015 (80 FR 5471), which were to become effective on April 3, 2015, are withdrawn.

[FR Doc. 2015-06701 Filed 3-25-15; 8:45 am]

BILLING CODE 6560-50-P